ENVIRONMENTAL PROTECTION AGENCY

[FRL-8931-9]

Proposed Agreement Regarding Site Work, Site Costs, Site Access, and Covenants Not To Sue for the Evening Star Mine Site, Boulder County, CO

AGENCY: Environmental Protection Agency.

ACTION: Notice of proposed agreement; request for public comment.

SUMMARY: In accordance with the requirements of section 122(h)(1) of the Comprehensive Environmental Response Compensation, and Liability Act of 1980, as amended (“CERCLA”), 42 U.S.C. 9622(h)(1), notice is hereby given of the proposed administrative settlement under section 122(h) of CERCLA, 42 U.S.C. 9622(h) between the U.S. Environmental Protection Agency (“EPA”) and The County of Boulder (The Settling Party). The Settling Party consents to and will not contest the authority of the United States to enter into this Agreement or to implement or enforce its terms. In return, the Settling Party will receive Covenants Not to Sue from EPA. The EPA alleges that the Settling Party is a responsible party pursuant to Section 107(a) of CERCLA, 42 U.S.C. 9607(a), and is jointly and severally liable for response costs incurred and to be incurred at or in connection with the Site.

The Settling Party agrees to perform work at the Site. The work to be implemented generally includes, but is not limited to, removing a road that was installed to access the Site, adding rip-rap material below waste rock impoundments, securing the Site, maintaining the soil cover and vegetation of the re-graded waste rock areas, and to take over operation and maintenance of the Site. The Settling Party also will pay within 30 days after the effective date of this Proposed Agreement $193,572.52 for Site Past Response Costs. EPA retains all of its access authorities and rights, including enforcement authorities related thereto, under CERCLA, RCRA, and any other applicable statutes or regulations. This covenant not to sue is conditioned upon the satisfactory performance by the Settling Party of their obligations under this Agreement. The Settling Party recognizes that this Agreement has been negotiated in good faith and that this Agreement is entered into without the admission or adjudication of any issue of fact or law.

DATES: Comments must be submitted on or before August 17, 2009. For thirty (30) days following the date of publication of this notice, the Agency will receive written comments relating to the agreement. The Agency will consider all comments received and may modify or withdraw its consent to the agreement if comments received disclose facts or considerations that indicate that the agreement is inappropriate, improper, or inadequate.

ADDRESSES: The Agency's response to any comments, the proposed agreement and additional background information relating to the agreement is available for public inspection at the EPA Superfund Record Center, 1595 Wynkoop Street, Denver, Colorado. Comments and requests for a copy of the proposed agreement should be addressed to Michael Rudy, Enforcement Specialist, Environmental Protection Agency—Region 8, Mail Code 8ENF-RC, 1595 Wynkoop Street, Denver, Colorado 80202-1129, and should reference the Evening Star Mine Site, Boulder County.

FOR FURTHER INFORMATION CONTACT: Michael Rudy, Enforcement Specialist, Environmental Protection Agency, Region 8, Mail Code 8ENF-ENF, at the above address, (303) 312-6332.

Dated: July 8, 2009.
Kelcey Land,
Acting Director, Technical Enforcement Program, Office of Enforcement, Compliance and Environmental Justice, U.S. Environmental Protection Agency, Region 8, 1595 Wynkoop Street, Denver, Colorado 80202-1129.

[FR Doc. E9-16933 Filed 7-15-09; 8:45 am]

BILLING CODE 6560-50-P